DEPARTMENT OF STATE

[Public Notice 7800]

Thirty-Day Notice of Proposed Information Collection: DS-71, Affidavit of Identifying Witness

ACTION: Notice of request for public comment and submission to OMB of proposed collection of information.

SUMMARY: The Department of State has submitted the following information collection request to the Office of Management and Budget (OMB) for approval in accordance with the Paperwork Reduction Act of 1995.

• Title of Information Collection: Affidavit of Identifying Witness.

• OMB Control Number: 1405-0088.

• Type of Request: Revision of a Currently Approved Collection.

• Originating Office: Bureau of Consular Affairs, CA/PPT/PMO/PC.

• Form Number: DS-71.

• Respondents: Individuals who are verifying identity of a passport applicant.

• Estimated Number of Respondents: 44,000 per year.

• Estimated Number of Responses: 44,000 per year.

• Average Hours per Response: 5 min.

• Total Estimated Burden: 3667 hours.

• Frequency: On Occasion.

• Obligation to Respond: Required to Obtain a Benefit.

DATES: Submit comments to the Office of Management and Budget (OMB) for up to 30 days from February 16, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Passport Services, Passport Forms Management and Officer, U.S. Department of State, Office of Program Management and Operational Support, 2201 C Street NW., Washington, DC 20520, who may be reached on 202-663-2457 or at PPTFormsOfficer@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of Proposed Collection

The Affidavit of Identifying Witness is submitted in conjunction with an application for a U.S. passport. It is used by Passport Services to collect information for the purpose of establishing the identity of the applicant. This application is completed by the identifying witness when the applicant is unable to establish his or her identity to the satisfaction of a person authorized to accept passport applications.

Methodology:

The Affidavit of Identifying Witness is submitted in conjunction with an application for a U.S. passport. Due to legislative mandates Form DS-0071 is only available at acceptance facilities and passport agencies. This form must be completed and signed in the presence of an authorized Passport Agent, Acceptance Agent, or Consular Officer.

Dated: February 7, 2012.
Barry J. Conway,
Managing Director for Support Operations, Passport Services, Department of State.

[FR Doc. 2012-3700 Filed 2-15-12; 8:45 am]

BILLING CODE 4710-06-P